DEPARTMENT OF ENERGY

Federal Energy Regulatory Commission

[Docket Numbers: RP23-1099-000]

Combined Notice of Filings

Take notice that the Commission has received the following Natural Gas Pipeline Rate and Refund Report filings:

Filings Instituting Proceedings

Applicants: Gas Transmission Northwest LLC.

Description: Motion Filing: Section 4 Rate Case Motion to Place Suspended Tariff Records into Effect to be effective 4/1/2024.

Filed Date: 3/28/24.

Accession Number: 20240328-5210.

Comment Date: 5 p.m. ET 4/9/24.

Docket Numbers: RP24-604-000.

Applicants: Eastern Gas Transmission and Storage, Inc.

Description: 4(d) Rate Filing: EGTS—March 28, 2024 Negotiated Rate Agreements to be effective 4/1/2024.

Filed Date: 3/28/24.

Accession Number: 20240328-5175.

Comment Date: 5 p.m. ET 4/9/24.

Docket Numbers: RP24-605-000.

Applicants: Destin Pipeline Company, L.L.C.

Description: 4(d) Rate Filing: Destin Pipeline Negotiated Rate Agreement Filing to be effective 4/1/2024.

Filed Date: 3/28/24.

Accession Number: 20240328-5204.

Comment Date: 5 p.m. ET 4/9/24.

Docket Numbers: RP24-606-000.

Applicants: Millennium Pipeline Company, LLC.

Description: 4(d) Rate Filing: Negotiated Rate Amendment—BKV 210169-2 to be effective 4/1/2024.

Filed Date: 3/28/24.

Accession Number: 20240328-5221.

Comment Date: 5 p.m. ET 4/9/24.

Docket Numbers: RP24-607-000.

Applicants: Portland Natural Gas Transmission System.

Description: 4(d) Rate Filing: Tariff Provision—Operational Purchases and Sales to be effective 4/28/2024.

Filed Date: 3/28/24.

Accession Number: 20240328-5269.

Comment Date: 5 p.m. ET 4/9/24.

Docket Numbers: RP24-608-000.

Applicants: Stagecoach Pipeline & Storage Company LLC.

Description: 4(d) Rate Filing: Negotiated Rate Agreement Filing (Chesapeake) to be effective 4/1/2024.

Filed Date: 3/28/24.

Accession Number: 20240328-5280.

Comment Date: 5 p.m. ET 4/9/24.

Docket Numbers: RP24-609-000.

Applicants: Transcontinental Gas Pipe Line Company, LLC.

Description: 4(d) Rate Filing: Negotiated Rates—FTP—DDC Permt Rls to be effective 2/1/2024.

Filed Date: 3/28/24.

Accession Number: 20240328-5284.

Comment Date: 5 p.m. ET 4/9/24.

Docket Numbers: RP24-610-000.

Applicants: Tennessee Gas Pipeline Company, L.L.C.

Description: 4(d) Rate Filing: Negotiated Rate Agreements Filing—Various Shippers Apr. 2024 to be effective 4/1/2024.

Filed Date: 3/28/24.

Accession Number: 20240328-5303.

Comment Date: 5 p.m. ET 4/9/24.

Docket Numbers: RP24-611-000.

Applicants: Pine Needle LNG Company, LLC.

Description: 4(d) Rate Filing: 2024 Annual Fuel and Electric Power Tracker Filing to be effective 5/1/2024.

Filed Date: 3/29/24.

Accession Number: 20240329-5022.

Comment Date: 5 p.m. ET 4/10/24.

Docket Numbers: RP24-612-000.

Applicants: Kern River Gas Transmission Company.

Description: 4(d) Rate Filing: 2024 Chevron Negotiated Contract 26047 Amendment to be effective 4/1/2024.

Filed Date: 3/29/24.

Accession Number: 20240329-5096.

Comment Date: 5 p.m. ET 4/10/24.

Docket Numbers: RP24-613-000.

Applicants: MountainWest Pipeline, LLC.

Description: 4(d) Rate Filing: Statement of Negotiated Rates V24—Questar Gas 7507 to be effective 4/1/2024.

Filed Date: 3/29/24.

Accession Number: 20240329-5102.

Comment Date: 5 p.m. ET 4/10/24.

Docket Numbers: RP24-614-000.

Applicants: Sabine Pipe Line LLC.

Description: 4(d) Rate Filing: Normal filing 2024—7.26-4.7 to be effective 4/1/2024.

Filed Date: 3/29/24.

Accession Number: 20240329-5124.

Comment Date: 5 p.m. ET 4/10/24.

Docket Numbers: RP24-615-000.

Applicants: Dauphin Island Gathering Partners.

Description: 4(d) Rate Filing: Chevron—Amendment eff 4-1-24 to be effective 4/1/2024.

Filed Date: 3/29/24.

Accession Number: 20240329-5128.

Comment Date: 5 p.m. ET 4/10/24.

Docket Numbers: RP24-616-000.

Applicants: National Fuel Gas Supply Corporation.

Description: Compliance filing: 2024 PS/GHG Costs True-Up Report (GT&C Section 42.3(c)) to be effective N/A.

Filed Date: 3/29/24.

Accession Number: 20240329-5188.

Comment Date: 5 p.m. ET 4/10/24.

Docket Numbers: RP24-617-000.

Applicants: East Tennessee Natural Gas, LLC.

Description: Compliance filing: 2022-2023 ETNG Cashout Report to be effective N/A.

Filed Date: 3/29/24.

Accession Number: 20240329-5208.

Comment Date: 5 p.m. ET 4/10/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-840-003.

Applicants: Transcontinental Gas Pipe Line Company, LLC.

Description: Compliance filing: Market-Based Rates_Washington Stor_SA_Tariff Compliance to be effective 5/1/2024.

Filed Date: 3/29/24.

Accession Number: 20240329-5193.

Comment Date: 5 p.m. ET 4/10/24.

Docket Numbers: RP23-1099-003.

Applicants: Gas Transmission Northwest LLC.

Description: Compliance filing: Section 4 Rate Case Compliance to Place Revised Rates In Effect to be effective 4/1/2024.

Filed Date: 3/28/24.

Accession Number: 20240328-5224.

Comment Date: 5 p.m. ET 4/9/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 29, 2024.
Debbie-Anne A. Reese,
Acting Secretary.

[FR Doc. 2024-07147 Filed 4-3-24; 8:45 am]

BILLING CODE 6717-01-P